OFFICE OF THE UNITED STATES TRADE REPRESENTATIVE

Generalized System of Preferences (GSP): Notice Changing the Date of the Country Practices Review Hearing

AGENCY: Office of the United States Trade Representative.

ACTION: Notice of change of hearing date.

SUMMARY: On August 11, 2010, a public notice was published in the Federal Register on pages 48737-48738 announcing a public hearing to consider country practices petitions received in the 2009 Annual Review under the Generalized System of Preferences (GSP) program. This notice announces a change in the hearing date and location, from September 24, 2010, to September 28, 2010. The hearing will now be held at 1724 F Street, NW., Washington, DC, beginning at 9:30 a.m.

FOR FURTHER INFORMATION CONTACT: Tameka Cooper, GSP Program, Office of the United States Trade Representative, 1724 F Street, NW., Room 601, Washington, DC 20508. The telephone number is (202) 395-6971, the fax number is (202) 395-2961, and the e-mail address is Tameka_Cooper@ustr.eop.gov.

Elena Bryan,
Deputy Assistant U.S. Trade Representative for Trade and Development; Interim Chairman, GSP Subcommittee of the Trade Policy Staff Committee; Office of the U.S. Trade Representative.

[FR Doc. 2010-22408 Filed 9-8-10; 8:45 am]

BILLING CODE 3190-W0-P